DEPARTMENT OF ENERGY

Federal Energy Regulatory Commission

[Docket No. CP12-502-000]

PetroLogistics Natural Gas Storage, LLC; Notice of Request Under Blanket Authorization

Take notice that on August 17, 2012, PetroLogistics Natural Gas Storage, LLC (PetroLogistics), 4470 Bluebonnet Blvd., Baton Rouge, LA 70809, filed in Docket No. CP12-502-000, an application pursuant to Sections 157.205 and 157.213 of the Commission's Regulations under the Natural Gas Act (NGA) as amended, to increase its maximum daily deliverability rate at the Choctaw Gas Storage Hub, located in Iberville Parish, Louisiana, under PetroLogistics' blanket certificate issued in Docket No. CP07-427-000, et al.¹ all as more fully set forth in the application which is on file with the Commission and open to the public for inspection.

¹ PetroLogistics Natural Gas Storage, LLC, 122 FERC ¶ 61,193 (2008).

PetroLogistics proposes to increase its maximum daily deliverability rate from 450 MMcf per day to 550 MMcf per day, at the Choctaw Gas Storage Hub, in order to allow full utilization of its existing facility. PetroLogistics states that the increase will not require any construction or modification of any existing facility, nor any revision of the system operating pressures.

Any questions concerning this application may be directed to Kevin M. Miller PetroLogistics Natural Gas Storage, LLC, 4470 Bluebonnet Blvd., Baton Rouge, LA 70809, or via telephone at (225) 706-7690, or at kmiller@petrologistics.com.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: August 23, 2012.
Kimberly D. Bose,
Secretary.

[FR Doc. 2012-21441 Filed 8-29-12; 8:45 am]

BILLING CODE 6717-01-P